DEPARTMENT OF ENERGY

Federal Energy Regulatory Commission

Combined Notice of Filings #2

Take notice that the Commission received the following electric rate filings:

Docket Numbers: ER23-2656-002.

Applicants: Louisville Gas and Electric Company.

Description: Compliance filing: Compliance Filing Rev Rate Schedule FERC No. 525 to be effective 3/17/2021.

Filed Date: 1/16/24.

Accession Number: 20240116-5242.

Comment Date: 5 p.m. ET 2/6/24.

Docket Numbers: ER24-181-001.

Applicants: Frankland Road Solar, LLC.

Description: Tariff Amendment: Amendment to MBR Application to be effective 12/22/2023.

Filed Date: 1/16/24.

Accession Number: 20240116-5237.

Comment Date: 5 p.m. ET 2/6/24.

Docket Numbers: ER24-892-000.

Applicants: SWG Arapahoe, LLC.

Description: Compliance filing: Tariff Revisions to be effective 1/17/2024.

Filed Date: 1/16/24.

Accession Number: 20240116-5136.

Comment Date: 5 p.m. ET 2/6/24.

Docket Numbers: ER24-893-000.

Applicants: Three Peaks Power, LLC.

Description: Compliance filing: Tariff Revisions to be effective 1/17/2024.

Filed Date: 1/16/24.

Accession Number: 20240116-5137.

Comment Date: 5 p.m. ET 2/6/24.

Docket Numbers: ER24-894-000.

Applicants: Twiggs County Solar, LLC.

Description: Compliance filing: Tariff Revisions to be effective 1/17/2024.

Filed Date: 1/16/24.

Accession Number: 20240116-5141.

Comment Date: 5 p.m. ET 2/6/24.

Docket Numbers: ER24-895-000.

Applicants: Blue Sky West, LLC.

Description: Compliance filing: Tariff Revisions to be effective 1/17/2024.

Filed Date: 1/16/24.

Accession Number: 20240116-5142.

Comment Date: 5 p.m. ET 2/6/24.

Docket Numbers: ER24-896-000.

Applicants: Valencia Power, LLC.

Description: Compliance filing: Tariff Revisions to be effective 1/17/2024.

Filed Date: 1/16/24.

Accession Number: 20240116-5143.

Comment Date: 5 p.m. ET 2/6/24.

Docket Numbers: ER24-897-000.

Applicants: Broad River Energy LLC.

Description: Compliance filing: Tariff Revisions to be effective 1/17/2024.

Filed Date: 1/16/24.

Accession Number: 20240116-5144.

Comment Date: 5 p.m. ET 2/6/24.

Docket Numbers: ER24-898-000.

Applicants: CID Solar, LLC.

Description: Compliance filing: Tariff Revisions to be effective 1/17/2024.

Filed Date: 1/16/24.

Accession Number: 20240116-5145.

Comment Date: 5 p.m. ET 2/6/24.

Docket Numbers: ER24-899-000.

Applicants: Tri-State Generation and Transmission Association, Inc.

Description: § 205(d) Rate Filing: Amendment to Service Agreement FERC No. 901 to be effective 12/18/2023.

Filed Date: 1/16/24.

Accession Number: 20240116-5151.

Comment Date: 5 p.m. ET 2/6/24.

Docket Numbers: ER24-900-000.

Applicants: Comanche Solar PV LLC.

Description: Compliance filing: Tariff Revisions to be effective 1/17/2024.

Filed Date: 1/16/24.

Accession Number: 20240116-5156.

Comment Date: 5 p.m. ET 2/6/24.

Docket Numbers: ER24-902-000.

Applicants: Cottonwood Solar, LLC.

Description: Compliance filing: Tariff Revisions to be effective 1/17/2024.

Filed Date: 1/16/24.

Accession Number: 20240116-5171.

Comment Date: 5 p.m. ET 2/6/24.

Docket Numbers: ER24-903-000.

Applicants: EnergyMark, LLC.

Description: Compliance filing: Tariff Revisions to be effective 1/17/2024.

Filed Date: 1/16/24.

Accession Number: 20240116-5172.

Comment Date: 5 p.m. ET 2/6/24.

Docket Numbers: ER24-904-000.

Applicants: Evergreen Wind Power II, LLC.

Description: Compliance filing: Tariff Revisions to be effective 1/17/2024.

Filed Date: 1/16/24.

Accession Number: 20240116-5175.

Comment Date: 5 p.m. ET 2/6/24.

Docket Numbers: ER24-906-000.

Applicants: FL Solar 1, LLC.

Description: Compliance filing: Tariff Revisions to be effective 1/17/2024.

Filed Date: 1/16/24.

Accession Number: 20240116-5177.

Comment Date: 5 p.m. ET 2/6/24.

Docket Numbers: ER24-907-000.

Applicants: FL Solar 4, LLC.

Description: Compliance filing: Tariff Revisions to be effective 1/17/2024.

Filed Date: 1/16/24.

Accession Number: 20240116-5178.

Comment Date: 5 p.m. ET 2/6/24.

Docket Numbers: ER24-908-000.

Applicants: Fountain Valley Power, L.L.C.

Description: Compliance filing: Tariff Revisions to be effective 1/17/2024.

Filed Date: 1/16/24.

Accession Number: 20240116-5182.

Comment Date: 5 p.m. ET 2/6/24.

Docket Numbers: ER24-909-000.

Applicants: GA Solar 3, LLC.

Description: Compliance filing: Tariff Revisions to be effective 1/17/2024.

Filed Date: 1/16/24.

Accession Number: 20240116-5184.

Comment Date: 5 p.m. ET 2/6/24.

Docket Numbers: ER24-910-000.

Applicants: Greeley Energy Facility LLC.

Description: Compliance filing: Tariff Revisions to be effective 1/17/2024.

Filed Date: 1/16/24.

Accession Number: 20240116-5191.

Comment Date: 5 p.m. ET 2/6/24.

Docket Numbers: ER24-911-000.

Applicants: Hancock Wind, LLC.

Description: Compliance filing: Tariff Revisions to be effective 1/17/2024.

Filed Date: 1/16/24.

Accession Number: 20240116-5192.

Comment Date: 5 p.m. ET 2/6/24.

Docket Numbers: ER24-912-000.

Applicants: Imperial Valley Solar Company (IVSC) 2, LLC.

Description: Compliance filing: Tariff Revisions to be effective 1/17/2024.

Filed Date: 1/16/24.

Accession Number: 20240116-5193.

Comment Date: 5 p.m. ET 2/6/24.

Docket Numbers: ER24-913-000.

Applicants: Innovative Solar 42, LLC.

Description: Compliance filing: Tariff Revisions to be effective 1/17/2024.

Filed Date: 1/16/24.

Accession Number: 20240116-5194.

Comment Date: 5 p.m. ET 2/6/24.

Docket Numbers: ER24-914-000.

Applicants: Goal Line, L.P.

Description: Compliance filing: Tariff Revisions to be effective 1/17/2024.

Filed Date: 1/16/24.

Accession Number: 20240116-5204.

Comment Date: 5 p.m. ET 2/6/24.

Docket Numbers: ER24-915-000.

Applicants: Grand View PV Solar Two LLC.

Description: Compliance filing: Tariff Revisions to be effective 1/17/2024.

Filed Date: 1/16/24.

Accession Number: 20240116-5205.

Comment Date: 5 p.m. ET 2/6/24.

Docket Numbers: ER24-916-000.

Applicants: Beaumont ESS, LLC.

Description: Baseline eTariff Filing: Market-Based Rate Application to be effective 2/23/2024.

Filed Date: 1/16/24.

Accession Number: 20240116-5213.

Comment Date: 5 p.m. ET 2/6/24.

Docket Numbers: ER24-917-000.

Applicants: Placerita ESS, LLC.

Description: Baseline eTariff Filing: Market-Based Rate Application to be effective 2/23/2024.

Filed Date: 1/16/24.

Accession Number: 20240116-5214.

Comment Date: 5 p.m. ET 2/6/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202).

Dated: January 16, 2024.
Debbie-Anne A. Reese,
Acting Secretary.

[FR Doc. 2024-01146 Filed 1-22-24; 8:45 am]

BILLING CODE 6717-01-P